DEPARTMENT OF THE INTERIOR

Bureau of Indian Affairs

25 CFR Part 142

RIN 1076-AE04

Alaska Resupply Operation

AGENCY: Bureau of Indian Affairs, Interior.

ACTION: Notice of proposed rulemaking.

SUMMARY: The Department of the Interior, Bureau of Indian Affairs (BIA), proposes to revise its regulations in the area of its administration of the Alaska Resupply Operation. The USMS North Star was decommissioned in 1984. However, the need for a resupply operation in Alaska continues. The Alaska Regional Office administers the Alaska Resupply Operation through the Seattle Support Center. All accounts receivable and payable are handled by the Seattle Support Center, which also rates and publishes a tariff. The proposed revisions to the regulations regarding this operation are to the large extent technical in nature; however, a section regarding preference in hiring under the Indian Reorganization Act of 1934 has been added. The technical revisions remove the terms “Areas Director’ and “Manager” and, in their places, add the terms “Regional Director” and “Traffic Manager” to reflect the current administration within the BIA and the terms now in common usage.

DATES: Comments must be submitted to the place noted under the heading ADDRESSES no later than October 2, 2000.

ADDRESSES: Comments should be addressed to: Regional Director, Alaska Regional Office, Bureau of Indian Affairs, Department of the Interior, 709 West 9th Street, Juneau, AK 99802. Comments may be hand-delivered to the same address from 9 a.m. to 4 p.m., Monday through Friday.

FOR FURTHER INFORMATION CONTACT: Warren Heisler, Deputy Regional Director, Alaska Regional Offices, Bureau of Indian Affairs, telephone 907/586-7179.

SUPPLEMENTARY INFORMATION:

A. Background

The USMS North Star was decommissioned in 1984. However, the need for a resupply operation in Alaska continues. The Alaska Regional Office administers the Alaska Resupply Operation through the Seattle Support Center. All accounts receivable and payable are handled by the Seattle Support center, which also rates and publishes a tariff. The proposed revisions to part 142 of 25 CFR make technical changes to references to the “Regional Director,” rather than to an “Area Director,” as this position no longer exists. Also, the term “Traffic Manager” is added to the term “Manager” to connote common usage of the person who oversees the traffic of supply routes through Alaska via the Seattle Support Center. Due to continued inquiry from the Alaska Native community, provisions regarding Indian preference in hiring have been added to part 142. No other significant changes have been made to part 142 through rulemaking.

B. Public Comments

Comments should be submitted to the address indicated in the ADDRESSES section of this notice, where they will be available for public inspection. All written comments received by the date indicated in the DATES section of this notice and all other relevant information in the record will be carefully assessed and fully considered prior to publication of the final rule.

C. Review Under Executive Order 12866

In accordance with the criteria in Executive Order 12866, this rule is not a significant regulatory action. This rule will not have an annual economic effect of $100 million or adversely effect an economic sector, productivity, jobs, the environment or other units of government. A cost-benefit and economic analysis is not required. This rule is administrative and technical in nature and makes minor modifications to the existing Alaska Resupply Operation.

D. Regulatory Flexibility Act

The Department of the Interior, BIA, certifies that this rule will not have a significant economic effect on a substantial number of small entities as defined under the Regulatory Flexibility Act (5 USC 601 et seq.). An initial Regulatory Flexibility Analysis is not required. Accordingly, a Small Entity Compliance Guide is not required.

E. Small Business Regulatory Enforcement Fairness Act

This rule is not a major rule under 5 USC 804(2), the Small Business Regulatory Enforcement Fairness Act. This rule does not have an annual effect on the economy of $100 million or more. This rule will not cause a major increase in costs or prices for consumers, individual industries, Federal, State or local government agencies, or geographic regions. This rule does not have significant adverse effects on competition, employment, investment, productivity, innovation, or the ability of the U.S.-based enterprises to compete with foreign-based enterprises.

F. Unfunded Mandates Reform Act

This rule does not impose an unfunded mandate on State, local, or tribal governments or the private sector of more than $100 million a year. In accordance with the Unfunded Mandates Reform Act (2 USC 1501, et seq.), this rule will not “significantly or uniquely” affect small governments. A Small Government Agency Plan is not required. This rule will not produce a Federal mandate of $100 million or greater in any year, i.e., it is not a “significant regulatory action” under the Unfunded Mandates Reform Act.

G. Federalism

This rule does not have significant Federalism effects to warrant the preparation of a Federalism Assessment under Executive Order 13132. This rule will not have substantial direct effects on the States, in their relationship between the Federal Government and the States, or on the distribution of power and responsibilities among the various levels of government.

H. Paperwork Reduction Act

This regulation does not contain any information collection requirements.

List of Subjects in CFR Part 142

Indians, Maritime carriers, Shipping.

For the reasons stated in the preamble, the Department of the Interior, Bureau of Indian Affairs, proposes to amend 25 CFR part 142 as follows:

PART 142—ALASKA RESUPPLY OPERATION

1. The authority citation for part 142 continues to read as follows:

Authority: 5 U.S.C. 301; R.S. 463; 25 U.S.C. 2; R.S. 465; 25 U.S.C. 9; 42 Stat. 208; 25 U.S.C. 13; 38 Stat. 486.

2. Section 142.1 is amended by removing the definitions “Area Director,” and “Manager,” and adding the definitions “Regional Director,” and “Traffic Manager” in their respective alphabetical order to read as follows:

§ 142.1 Definitions.

* * * * *

Regional Director means the Regional Director, Alaska Regional Offices, Bureau of Indian Affairs.

Traffic Manager means Traffic Manager of the Seattle Support Center.

3. Section 142.3 is amended by revising the first sentence of paragraph (c) and paragraph (d) to read as follows:

§ 142.3 Who is responsible for the Alaska Resupply Operation?

* * * * *

(c) The Traffic Manager must make itineraries for each voyage in conjunction with contracted carriers. * * *

(d) The Regional Director is authorized to direct the Seattle Support Center to perform special services which may arise and to act in any emergency.

§ 142.4 [Amended]

4. Section 142.4 is amended by adding the word “Traffic” before the word “Manager” in paragraph (d).

5. Section 142.5 is amended by revising the introductory text, paragraph (a) introductory text, and paragraph (a)(1) to read as follows:

§ 142.5 Who determines the rates and conditions of service of the Alaska Resupply Operation?

The general authority of the Assistant Secretary—Indian Affairs to establish rates and conditions for users of the Alaska Resupply Operation is delegated to the Regional Director.

(a) The Traffic Manager must develop a tariff that establishes rates and conditions for charging users.

(1) The tariff must be approved by the Regional Director.

* * * * *

6. Section 142.6 is amended by revising paragraphs (a) and (c) to read as follows:

§ 142.6 How are the rates and conditions for the Alaska Resupply Operation established?

* * * * *

(a) The Regional Director's approval of the tariff constitutes a final action for the Department for the purpose of establishing billing rates.

* * * * *

(c) If the income from the tariff substantially exceeds actual costs, a prorated [reimbursement] payment will be issued to the shipper.

§ 142.7 [Amended]

7. Section 142.7 is amended adding the word “Traffic” before the word “Manager” in the first sentence of paragraph (a).

§ 142.8 [Amended]

8. Section 142.8 is amended by adding the word “Traffic” before the word “Manager” in the second sentence.

§ 142.9 [Amended]

9. Section 142.9 is amended by adding the word “Traffic” before the word “Manager” in paragraph (a).

§ 142.10 [Amended]

10. Section 142.10 is amended by adding the word “Traffic” before the word “Manager.”

§ 142.12 [Amended]

11. Section 142.12 is amended by adding the words “or booker” after the word “shipper” in paragraph (b).

12. Section 142.13 is revised to read as follows:

§ 142.13 Does the Seattle Support Center apply preference in hiring?

Yes. In accordance with the Indian Reorganization Act of 1934 (25 USC 479), Congress extended preference in employment in the Bureau to qualified Indians. To that end, the Seattle Support Center will apply those principles as outline in 25 CFR part 5 which states in pertinent part: “Preference is extended to persons of Indian descent who are:

(a) Members of any recognized Indian tribe now under Federal jurisdiction.

(b) Descendants of such members who were, on June 1, 1934, residing within the present boundaries of any Indian reservation.

(c) All others of one-half or more Indian blood of tribes indigenous to the U.S.

(d) Eskimos and other aboriginal people of Alaska.

Dated: July 25, 2000.
Kevin Gover,
Assistant Secretary—Indian Affairs.

[FR Doc. 00-19461 Filed 8-2-00; 8:45 am]

BILLING CODE 4310-02-M